DEPARTMENT OF TRANSPORTATION

Federal Aviation Administration

Notice of Submission Deadline for Schedule Information for Chicago O'Hare International Airport for the Winter 2008/2009 Scheduling Season

AGENCY: Department of Transportation, FAA.

ACTION: Notice of submission deadline.

SUMMARY: The FAA announces a May 15, 2008, deadline for submitting requests for domestic and international scheduled arrivals at Chicago O'Hare International Airport (ORD) for the Winter 2008/2009 scheduling season beginning October 26, 2008. The deadline coincides with the submission deadline established by the International Air Transport Association (IATA) for the Winter 2008/2009 Schedules Conference.

DATES: Proposed schedule information must be submitted to the FAA no later than May 15, 2008.

SUPPLEMENTARY INFORMATION: The FAA currently limits arrivals at ORD from 7 a.m. to 9 p.m., Central Time, Monday through Friday, and 12 p.m. to 9 p.m., Central Time, on Sunday, based primarily on runway capacity limits. The FAA's restrictions at ORD in Title 14, Code of Federal Regulations, Part 93, Subpart B, are the equivalent of a Level 3 Fully Coordinated Airport as used in IATA Worldwide Scheduling Guidelines. Separate schedule facilitation is done at the airport level for international passenger flights operating at Terminal 5. In addition to filing schedules for FAA runway capacity review, carriers should also file Terminal 5 schedules, if appropriate, at the address indicated in the IATA Worldwide Scheduling Guidelines, Annex 3. Carriers would obtain separate approval for FAA runway slots and Terminal 5 operations, as appropriate.

The FAA rules limiting flights at ORD will sunset on October 24, 2008, under the terms of the rule effective October 29, 2006. This sunset provision was based on an expected increase in capacity when the first new runway opens under the O Hare Modernization Program (OMP). Runway 9L/27R is currently planned to be commissioned in November 2008. This will provide additional capacity at O'Hare for arriving and departing aircraft under various weather and runway configurations. Capacity projections estimate over 50,000 annual operations, or an average of about 8-10 total operations per hour, may be accommodated. However, additional operations must be reasonably distributed to avoid significant delay consequences. Terminal and gate availability are also expected to be constraints during certain periods.

The FAA is seeking information in order to review projected schedules and to assist the agency in determining whether scheduling limits may continue to be applied at ORD until further runway capacity is realized under Phase II of the OMP. The form of the scheduling limitations, if needed, has not been determined. Options include: (1) Remove FAA scheduling limitations by letting the rule expire; (2) continue the airport's designation as IATA Level 3 and utilize the IATA Worldwide Scheduling Guidelines, with appropriate local rules, to review planned operations and resolve oversubscribed hours that would result in unacceptable delays; and (3) increase the scheduling limits to recognize additional runway capacity and modify the expiration date of the current rule. Any proposal to modify or extend the rule would be in a separate rulemaking process.

The FAA recognizes there is a potential for carriers to file schedules that are preliminary in nature, rather than bone fide operational plans, and that some of the proposed flights may not actually operate. We understand that carriers legitimately review schedule plans for the winter 2008/2009 season well beyond the May 15 submission deadline and that it may not be possible to have final schedules at this time, especially for domestic flights. This is particularly true given the increasing fuel and operating costs facing carriers at this time. The FAA expects carriers to provide the government realistic information representative of their schedule plans for winter 2008/2009 as the information will be part of our assessment of the potential operational impacts. The FAA will discuss carrier schedule requests relative to available runway capacity in the weeks following the schedule submissions, including at the IATA Schedules Conference in June. A timetable for a final agency proposal, if any, to continue limits on operations at O'Hare after October 24, 2008, has not been established at this time.

Carriers are requested to provide information on scheduled arrivals including flight number, origin airport, scheduled time of arrival, frequency, effective dates, and equipment. The FAA is primarily concerned about arrival demand, as in the current rule, since most departures would subsequently be constrained by the arrival times given the predominant nature of hub operations at ORD. The FAA will, however, accept information on planned departures by carriers since this may provide more complete information and since many carriers use automated scheduling information systems.

The U.S. winter scheduling season is from November 2, 2008, through March 7, 2009, in recognition of the U.S. standard time dates. The FAA understands the IATA winter 2008/2009 season is October 26, 2008, through March 28, 2009. The FAA will accept schedule information that coincides with the IATA scheduling season, rather than U.S. standard time dates, in order to ease the administrative burdens on carriers conducting international operations and in order to ensure that FAA has the most accurate schedule information.

ADDRESSES: Requests may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: James Tegtmeier, Office of the Chief Counsel, AGC-40, Federal Aviation Administration, 800 Independence Avenue, SW., Washington, DC 20591; e-mail James.Tegtmeier@faa.gov.

Issued in Washington, DC on May 2, 2008.
Rebecca B. Macpherson,
Assistant Chief Counsel for Regulations.

[FR Doc. 08-1226 Filed 5-2-08; 4:10 pm]

BILLING CODE 4910-13-P